DEPARTMENT OF COMMERCE

Bureau of Industry and Security

Regulations and Procedures Technical Advisory Committee; Meeting Notice

The Regulations and Procedures Technical Advisory Committee (RPTAC) will meet April 2, 2019, 9:00 a.m., Room 3884, in the Herbert C. Hoover Building, 14th Street between Constitution and Pennsylvania Avenues NW, Washington, DC The Committee advises the Office of the Assistant Secretary for Export Administration on implementation of the Export Administration Regulations (EAR) and provides for continuing review to update the EAR as needed.

Agenda

Public Session

1. Opening remarks by the Chairman.

2. Opening remarks by Bureau of Industry and Security.

3. Presentation of papers or comments by the Public.

4. Export Enforcement update.

5. Regulations update.

6. Working group reports.

7. Automated Export System (AES) update.

The open session will be accessible via teleconference to 20 participants on a first come, first serve basis. To join the conference, submit inquiries to Ms. Yvette Springer at Yvette.Springer@bis.doc.gov no later than March 26, 2019.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Yvette Springer,
Committee Liaison Officer.

[FR Doc. 2019-04869 Filed 3-14-19; 8:45 am]

BILLING CODE 3510-JT-P